DEPARTMENT OF LABOR

Employment and Training Administration

Job Corps: Final Finding of No Significant Impact (FONSI) for the Proposed Job Corps Center Located on Scott Hamilton Drive in Little Rock, AR

AGENCY: Employment and Training Administration, Labor.

ACTION: Final Finding of No Significant Impact (FONSI) for the proposed Job Corps Center to be located on Scott Hamilton Drive in Little Rock, Arkansas.

SUMMARY: Pursuant to the Council on Environmental Quality Regulations (40 CFR part 1500-08) implementing procedural provisions of the National Environmental Policy Act (NEPA), the Department of Labor, Employment and Training Administration, Office of Job Corps gives final notice of the proposed construction of a new Job Corps Center at Scott Hamilton Drive in Little Rock, Arkansas, and that this construction will not have a significant adverse impact on the environment. In accordance with 29 CFR 11.11(d) and 40 CFR 1501.4(e)(2), a preliminary FONSI for the new Job Corps Center was published in the February 13, 2004 Federal Register (69 FR 7261-7262). No comments were received regarding the preliminary FONSI.

ETA has reviewed the conclusion of the environmental assessment (EA), and agrees with the finding of no significant impact. This notice serves as the Final Finding of No Significant Impact for the new Job Corps Center at Scott Hamilton Drive in Little Rock, Arkansas. The preliminary FONSI and the EA are adopted in final with no change.

EFFECTIVE DATE: These findings are effective as of April 28, 2004.

FOR FURTHER INFORMATION CONTACT: Michael O'Malley, Employment and Training Administration, Department of Labor, 200 Constitution Avenue NW., Room N-4460, Washington, DC, 20210; (202) 693-3108 (this is not a toll-free number).

Dated this 15th day of April, 2004.
Richard C. Trigg,
National Director of Job Corps.

[FR Doc. 04-9570 Filed 4-27-04; 8:45 am]

BILLING CODE 4510-30-P